DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomics of Guided Wildlife Viewing Operations in Monterey Bay National Marine Sanctuary (MBNMS).

OMB Control Number: 0648-xxxx.

Form Number(s): None.

Type of Request: Regular (request for a new information collection).

Number of Respondents: 56.

Average Hours per Response: 2.5 hours.

Burden Hours: 140.

Needs and Uses: This request is for a new information collection.

NOAA is mentoring student interns from the Monterey Institute for International Studies to estimate the market and non-market economic values associated with non-consumptive recreation uses (e.g. whale watching, other wildlife observation, SCUBA diving, snorkeling, beach activities, surfing, wind-surfing, kite boarding, paddle boarding, etc.) in the Monterey Bay National Marine Sanctuary (MBNMS) for those accessing the MBNMS via “for hire” operation boats.

We will conduct surveys of the for hire operations that take people out for non-consumptive recreation, to obtain total use by type of activity and the spatial use by type of activity. Information will also be obtained on costs-and-earnings of the operations, knowledge, attitudes and perceptions of sanctuary management strategies and regulations, and demographic information on owner/captains and crews. Surveys will also be conducted of the passengers aboard the for hire operation boats to obtain their market and non-market economic use values for non-consumptive recreation use and how those value change with changes in natural resource attribute conditions and user characteristics. Additional information will be obtained on importance-satisfaction ratings of key natural resource attributes, facilities and services, knowledge, attitudes and perceptions of management strategies and regulations, and demographic profiles of passengers.

Affected Public: Business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 20, 2015.
Sarah Brabson,
NOAA PRA Clearance Officer.

[FR Doc. 2015-26975 Filed 10-22-15; 8:45 am]

BILLING CODE 3510-NK-P